DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On May 17, 2019, OFAC determined that the property and interests in property subject to U.S. jurisdiction of the following persons are blocked under the relevant sanctions authority listed below.

Individuals

1. LOPEZ TORRES, Ana Lilia, Mar de Cortes Num. Ext. 39, Luis Donaldo Colosio, Tepic, Nayarit 63178, Mexico; Av. de la Cultura Num. Ext. 157, Ciudad del Valle, Tepic, Nayarit 63157, Mexico; Doctor Mateo del Regil Numero MZ-3, Colonia Doctor Leyva Medina, clave catastral 1-59-11-180-17, Tepic, Nayarit, Mexico; DOB 25 Aug 1965; POB Sinaloa, Mexico; nationality Mexico; Gender Female; C.U.R.P. LOTA650825MSLPRN09 (Mexico) (individual) [GLOMAG].

Designated pursuant to section 1(a)(iii)(B) of Executive Order 13818 of December 20, 2017, “Blocking the Property of Persons Involved in Serious Human Rights Abuse or Corruption” (E.O. 13818), for being owned or controlled by, or having acted or purported to act for or on behalf of, directly or indirectly, ROBERTO SANDOVAL CASTANEDA, a person whose property and interests in property are blocked pursuant to E.O. 13818.

2. SANDOVAL CASTANEDA, Roberto, Mateo del Regil # 31, Fracc. IMSS, Tepic, Nayarit 63186, Mexico; Av. Prisciliano Sanchez Sur # 384-A, Col. San Antonio, Tepic, Nayarit 63159, Mexico; Calle Canaan Numero 5, Colonia Hermosa Provincia, Tepic, Nayarit, Mexico; Oro # 87, Col. Valle de Matatipac, Tepic, Nayarit 63195, Mexico; DOB 15 Nov 1969; POB Nayarit, Mexico; nationality Mexico; Gender Male; C.U.R.P. SACR691115HNTNSB06 (Mexico) (individual) [GLOMAG].

Designated pursuant to section 1(a)(ii)(B)(1) of E.O. 13818 for being a former government official who is responsible for or complicit in, or has directly or indirectly engaged in, corruption, including the misappropriation of state assets, the expropriation of private assets for personal gain, corruption related to government contracts or the extraction of natural resources, or bribery.

3. SANDOVAL LOPEZ, Lidy Alejandra, Calle Mateo del Regil No. Ext. 31, Col. Fraccionamiento IMSS, Tepic, Nayarit C.P. 63186, Mexico; Palomas Numero 14, Colonia El Armadillo, Tepic, Nayarit, Mexico; Lote de Terreno Marcado Numero 6, Manzana 1, Vialidad Privada, Fraccionamiento Lago David, clave catastral 01-059-14-101-006, Tepic, Nayarit, Mexico; Calle Paseo de los Bosques MZ-A, Colonia Bonaterra, clave catastral 1-59-14-300-17, Tepic, Nayarit, Mexico; Lote de Terreno Marcado Numero 7, Manzana 1, Vialidad Privada, Fraccionamiento Lago David, Tepic, Nayarit, Mexico; DOB 08 Oct 1989; POB Nayarit, Mexico; nationality Mexico; Gender Female; C.U.R.P. SALL891008MNTNPD09 (Mexico) (individual) [GLOMAG].

Designated pursuant to section 1(a)(iii)(B) of E.O. 13818 for being owned or controlled by, or having acted or purported to act for or on behalf of, directly or indirectly, ROBERTO SANDOVAL CASTANEDA, a person whose property and interests in property are blocked pursuant to E.O. 13818.

4. SANDOVAL LOPEZ, Pablo Roberto, Mexico; DOB 01 Jul 1992; POB Nayarit, Mexico; nationality Mexico; Gender Male; C.U.R.P. SALP920701HNTNPB05 (Mexico) (individual) [GLOMAG].

Designated pursuant to section 1(a)(iii)(B) of E.O. 13818 for being owned or controlled by, or having acted or purported to act for or on behalf of, directly or indirectly, ROBERTO SANDOVAL CASTANEDA, a person whose property and interests in property are blocked pursuant to E.O. 13818.

Entities

1. BODECARNE, S.A. DE C.V., Calle Teikame Numero 21, Modulo A, Nayarabastos, Tepic, Nayarit, Mexico; Folio Mercantil No. 7266 (Mexico) [GLOMAG].

Designated pursuant to section 1(a)(iii)(B) of E.O. 13818 for being owned or controlled by, or having acted or purported to act for or on behalf of, directly or indirectly, ROBERTO SANDOVAL CASTANEDA, a person whose property and interests in property are blocked pursuant to E.O. 13818.

2. IYARI (a.k.a. IYARI ALTO DISENO HUICHOL; a.k.a. IYARI DISENO DE COLECCION HUICHOL; a.k.a. IYARI DISENO Y MODA ETNICO), Av. De la Cultura No. 157, Col. Ciudad del Valle, Tepic, Nayarit C.P. 63157, Mexico; Naciones Unidas 4579-C, Patria Universidad, Zapopan, Jalisco, Mexico; website www.iyari.com.mx; R.F.C. LOTA650825RF9 (Mexico) [GLOMAG].

Designated pursuant to section 1(a)(iii)(B) of E.O. 13818 for being owned or controlled by, or having acted or purported to act for or on behalf of, directly or indirectly, ANA LILIA LOPEZ TORRES, a person whose property and interests in property are blocked pursuant to E.O. 13818.

3. L-INMO, SOCIEDAD ANONIMA DE CAPITAL VARIABLE (a.k.a. L. INMO INMOBILIARIA; a.k.a. L-INMO, S.A. DE C.V.), Distrito Federal, Mexico; Carretera Tepic-Aguamilpa Sin Numero, Fraccion de la Parcela 75 Z-2 P1/1 del ejido de La Cantera, clave catastral 1-7-D21-D3-6215, Tepic, Nayarit, Mexico; Carretera Tepic-Aguamilpa Sin Numero, Fraccion de la Parcela 75 Z-2 P1/1 del ejido de La Cantera, clave catastral 1-7-D21-D3-6218, Tepic, Nayarit, Mexico; R.F.C. LIN1412111Q0 (Mexico) [GLOMAG].

Designated pursuant to section 1(a)(iii)(B) of E.O. 13818 of for being owned or controlled by, or having acted or purported to act for or on behalf of, directly or indirectly, ROBERTO SANDOVAL CASTANEDA, a person whose property and interests in property are blocked pursuant to E.O. 13818.

4. VALOR Y PRINCIPIO DE DAR, ASOCIACION CIVIL (a.k.a. VALOR Y PRINCIPIO DE DAR, A.C.), Fraccion de predio denominado Tecolote y Frenton, (Falda del Cerro), clave catastral D-31-A1-2922, Tepic, Nayarit, Mexico [GLOMAG].

Designated pursuant to section 1(a)(iii)(B) of E.O. 13818 for being owned or controlled by, or having acted or purported to act for or on behalf of, directly or indirectly, ROBERTO SANDOVAL CASTANEDA, a person whose property and interests in property are blocked pursuant to E.O. 13818.

Dated: May 17, 2019.
Andrea Gacki,
Director, Office of Foreign Assets Control.

[FR Doc. 2019-10671 Filed 5-21-19; 8:45 am]

BILLING CODE 4810-AL-P